DEPARTMENT OF THE TREASURY

Internal Revenue Service

26 CFR Part 31

[TD 9440]

RIN 1545-BI39

Employer's Annual Federal Tax Return and Modifications to the Deposit Rules; Correction

AGENCY: Internal Revenue Service (IRS), Treasury.

ACTION: Correcting amendment.

SUMMARY: This document contains corrections to final and temporary regulations (TD 9440) that were published in the Federal Register on Monday, December 29, 2008, relating to the annual filing of Federal employment tax returns and requirements for employment tax deposits. These temporary regulations relate to sections 6011 and 6302 of the Internal Revenue Code concerning reporting and paying income taxes withheld from wages and reporting and paying taxes under the Federal Insurance Contributions Act (FICA) (collectively, “employment taxes”).

DATES: Effective Date: This correction is effective January 21, 2009, and is applicable on December 29, 2008.

FOR FURTHER INFORMATION CONTACT: Audra Dineen, (202) 622-4910 (not a toll-free number).

SUPPLEMENTARY INFORMATION:

Background

This document contains corrections to final and temporary regulations (TD 9440) that were published in the Federal Register on Monday, December 29, 2008 (73 FR 79354) relating to the annual filing of Federal employment tax returns and requirements for employment tax deposits. The final and temporary regulations that are the subject of this document are under sections 6011 and 6302 of the Internal Revenue Code. These temporary regulations generally allow certain employers to file a Form 944, “Employer's ANNUAL Federal Tax Return”, rather than Form 941, “Employer's QUARTERLY Federal Tax Return”. In addition to rules related to Form 944, the temporary regulations provide an additional method for employers who file Form 941 to determine whether the amount of accumulated employment taxes is considered de minimis. The portions of this document that are final regulations provide necessary cross-references to the temporary regulations.

Need for Correction

As published, final and temporary regulations (TD 9440) contain errors that may prove to be misleading and are in need of clarification.

List of Subjects in 26 CFR Part 31

Employment taxes, Income taxes, Penalties, Pensions, Railroad retirement, Reporting and recordkeeping requirements, Social security, Unemployment compensation.

Correction of Publication

Accordingly, 26 CFR part 31 is corrected by making the following correcting amendments:

PART 31—EMPLOYMENT TAXES AND COLLECTION OF INCOME TAX AT SOURCE

Paragraph 1. The authority citation for part 31 continues to read, in part, as follows:

Authority: 26 U.S.C. 7805 * * *

Par. 2. Section 31.6302-0T is amended by revising the entry for § 31.6302-1T(d)

Example 6. to read as follows:

§ 31.6302-0T Table of contents (temporary).

* * * * *

§ 31.6302-1T Federal tax deposit rules for withheld income taxes and taxes under the Federal Insurance Contributions Act (FICA) attributable to payments made after December 31, 1992 (temporary).

* * * * *

(d) * * *

Example 6. Extension of time to deposit for employers who filed Form 944 for the preceding year satisfied.

* * * * *

Par. 3. Section 31.6302-1T is amended by revising the last sentence of paragraph (d)

Example 6. to read as follows:

§ 31.6302-1T Federal tax deposit rules for withheld income taxes and taxes under the Federal Insurance Contributions Act (FICA) attributable to payments made after December 31, 1992 (temporary).

* * * * *

(d) * * *

Example 6. * * * Pursuant to § 31.6302-1T(c)(6), F will be deemed to have timely deposited the employment taxes due for January 2007, and, thus, the IRS will not impose a failure-to-deposit penalty under section 6656 for that month.

* * * * *

LaNita Van Dyke,
Chief, Publications and Regulations Branch Legal Processing Division, Associate Chief Counsel, (Procedure and Administration).

[FR Doc. E9-1097 Filed 1-16-09; 8:45 am]

BILLING CODE 4830-01-P